DEPARTMENT OF AGRICULTURE

Animal and Plant Health Inspection Service

9 CFR Part 77

[Docket No. 99-038-3]

Tuberculosis in Cattle, Bison, Goats, and Captive Cervids; State and Zone Designations

AGENCY: Animal and Plant Health Inspection Service, USDA.

ACTION: Notice of reopening and extension of comment period.

SUMMARY: We are reopening and extending the comment period for our proposed rule that would amend the bovine tuberculosis regulations to establish new levels of tuberculosis risk classifications to be applied to States and zones within States. The proposed rule would also classify States and zones according to their tuberculosis risk with regard to captive cervids.

Additionally, it would amend the regulations to specify that the regulations apply to goats as well as to cattle, bison, and captive cervids, and would increase the amount of testing that must be done before certain cattle, bison, and goats may be moved interstate. This action will allow interested persons additional time to prepare and submit comments.

DATES: We invite you to comment on Docket No. 99-038-1. We will consider all comments that we receive by May 8, 2000.

ADDRESSES: Please send your comment and three copies to: Docket No. 99-038-1, Regulatory Analysis and Development, PPD, APHIS, Suite 3C03, 4700 River Road, Unit 118, Riverdale, MD 20737-1238.

Please state that your comment refers to Docket No. 99-038-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Joseph Van Tiem, Senior Staff Veterinarian, VS, APHIS, USDA, 4700 River Road Unit 43, Riverdale, MD 20737-1231; (301) 734-7716.

SUPPLEMENTARY INFORMATION:

Background

On March 7, 2000, we published in the Federal Register (65 FR 11912-11940, Docket No. 99-038-1) a proposal to amend the bovine tuberculosis regulations, contained in 9 CFR part 77. We proposed to: (1) Establish several new levels of tuberculosis risk classifications to be applied to States and zones within States; (2) classify States and zones according their tuberculosis risk with regard to captive cervids; (3) apply the regulations to goats as well as to cattle, bison, and captive cervids; and (4) increase the amount of testing required for the interstate movement of certain cattle, bison, and goats.

Comments on the proposed rule were required to be received on or before April 21, 2000. On March 24, 2000, we published in the Federal Register (65 FR 15877-15878, Docket No. 99-038-2) a correction to Docket No. 99-038-1. Comments on the proposed rule as corrected were required to be received on or before April 21, 2000.

Several commenters have requested that we extend the comment period on Docket No. 99-038-1 to allow additional time for members of the public to review the proposed rule and to submit comments. In response to these requests, we are reopening and extending the comment period on Docket No. 99-038-1 until May 8, 2000. This action will allow interested persons additional time to prepare and submit comments.

Authority: 21 U.S.C. 111, 114, 114a, 115-117, 120, 121, 134b, and 134f; 7 CFR 2.22, 2.80, and 371.2(d).

Done at Washington, DC, this 26th day of April 2000.
Bobby R. Acord,
Acting Administrator, Animal and Plant Health Inspection Service.

[FR Doc. 00-10809 Filed 4-28-00; 8:45 am]

BILLING CODE 3410-34-U